DEPARTMENT OF COMMERCE

Foreign-Trade Zones Board

[Order No. 1850]

Reorganization and Expansion of Foreign-Trade Zone 219 Under Alternative Site Framework Yuma, AZ

Pursuant to its authority under the Foreign-Trade Zones Act of June 18, 1934, as amended (19 U.S.C. 81a-81u), the Foreign-Trade Zones Board (the Board) adopts the following Order:

Whereas, the Board adopted the alternative site framework (ASF) (74 FR 1170, 01/12/09; correction 74 FR 3987, 01/22/09; 75 FR 71069-71070, 11/22/10) as an option for the establishment or reorganization of zones;

Whereas, the Greater Yuma Economic Development Corporation, grantee of Foreign-Trade Zone 219, submitted an application to the Board (FTZ Docket 6-2012, filed 01/13/2012) for authority to reorganize and expand under the ASF with a service area of Yuma County, Arizona, in and adjacent to the San Luis U.S. Customs and Border Protection port of entry, FTZ 219's existing Sites 1 and 2 and new Site 4 would be categorized as magnet sites, Site 3 would be removed from the zone and the grantee proposes one initial usage-driven site (Site 5);

Whereas, notice inviting public comment was given in the Federal Register (77 FR 2957-2958, 01/20/2012) and the application has been processed pursuant to the FTZ Act and the Board's regulations; and,

Whereas, the Board adopts the findings and recommendation of the examiner's report, and finds that the requirements of the FTZ Act and the Board's regulations are satisfied, and that the proposal is in the public interest;

Now, Therefore, the Board hereby orders:

The application to reorganize and expand FTZ 219 under the alternative site framework is approved, subject to the FTZ Act and the Board's regulations, including Section 400.13, to the Board's standard 2,000-acre activation limit for the zone, to a five-year ASF sunset provision for magnet sites that would terminate authority for Site 2 and Site 4 if not activated by August 31, 2017, and to a three-year ASF sunset provision for usage-driven sites that would terminate authority for Site 5 if no foreign-status merchandise is admitted for a bona fide customs purpose by August 31, 2015.

Signed at Washington, DC, this 17th day of August 2012.
Ronald K. Lorentzen,
Acting Assistant Secretary of Commerce for Import Administration, Alternate Chairman, Foreign-Trade Zones Board.
Andrew McGilvray,
Executive Secretary.

[FR Doc. 2012-21325 Filed 8-29-12; 8:45 am]

BILLING CODE P